DEPARTMENT OF THE INTERIOR

National Park Service

[NPS-WASO-NRNHL-DTS#-34596; PPWOCRADI0, PCU00RP14.R50000]

National Register of Historic Places; Notification of Pending Nominations and Related Actions

AGENCY: National Park Service, Interior.

ACTION: Notice.

SUMMARY: The National Park Service is soliciting electronic comments on the significance of properties nominated before September 17, 2022, for listing or related actions in the National Register of Historic Places.

DATES: Comments should be submitted electronically by October 17, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before September 17, 2022. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

IOWA

Polk County

Val-Air Ballroom, 301 Ashworth Rd., West Des Moines, SG100008304

Webster County

Sacred Heart Catholic Church, 211 South 13th St., Fort Dodge, SG100008305

KANSAS

Lincoln County

Behrhorst Brothers Hardware (Post Rock Limestone Properties in Kansas, 1870-1948 MPS), 105 North Main St., Sylvan Grove, MP100008289

Russell County

Lucas School Gymnasium (Post Rock Limestone Properties in Kansas, 1870-1948 MPS), 130 North Greely Ave., Lucas, MP100008290

Gernon, Nicholas, House (Post Rock Limestone Properties in Kansas, 1870-1948 MPS), 818 North Kansas St., Russell, MP100008291

UTAH

Carbon County

Helper Historic District (Boundary Increase), Roughly bounded by Maple (400 South), Bryner (600 West), Ridgeway (500 East), and E (450 North) Sts., Helper, BC100008303

VIRGINIA

Hanover County

Brown Grove Rural Historic District, Ashcake, Carters Heights, Egypt, Johnson-Town, Sliding Hill, Lewistown, Brook Springs, and Mount Hermon Rds., Ashland vicinity, SG100008295

A request for removal has been made for the following resources:

MICHIGAN

Marquette County

Longyear Hall of Pedagogy-Northern Michigan University, Presque Isle Ave., Marquette, OT80001880

Wayne County

Sante Fe Apartments (University-Cultural Center Phase II MRA), 681 Merrick, Detroit, OT86000996

Additional documentation has been received for the following resources:

GEORGIA

Fulton County

Virginia-Highland Historic District (Additional Documentation), Roughly bounded by Amsterdam Ave., Rosedale Rd., Ponce de Leon Ave., and the Norfolk Southern Railroad, Atlanta, AD05000402

NEW JERSEY

Morris County

Acorn Hall (Additional Documentation), 68 Lafayette Ave., Morristown, AD73001124

UTAH

Carbon County

Helper Historic District (Additional Documentation), Roughly bounded by Maple (400 South), Bryner (600 West), Ridgeway (500 East), and E (450 North) Sts., Helper, AD79002491

Sanpete County

Spring City Historic District (Additional Documentation), Roughly bounded by city corporate boundary, Spring City, AD80003957

Authority: Section 60.13 of 36 CFR part 60.

Dated: September 20, 2022.
Sherry A. Frear,
Chief, National Register of Historic Places/National Historic Landmarks Program.

[FR Doc. 2022-21291 Filed 9-29-22; 8:45 am]

BILLING CODE 4312-52-P